DEPARTMENT OF LABOR

Employment and Training Administration

[TA-W-51,157]

DBM Technologies LLC, Blow Molding, Corunna, Michigan; Notice of Termination of Investigation

Pursuant to section 221 of the Trade Act of 1974, as amended, an investigation was initiated on March 14, 2003, in response to a worker petition filed on behalf of workers at DBM Technologies LLC, Blow Molding, Corunna, Michigan.

The subject plant closed more than one year prior to the date of the petition. Section 223(b) of the Act specifies that no certification may apply to any worker whose last separation occurred more than one year before the date of the petition. Consequently, the investigation has been terminated.

Signed in Washington, DC, this 9th day of May, 2003.
Elliott S. Kushner,
Certifying Officer, Division of Trade Adjustment Assistance.

[FR Doc. 03-12561 Filed 5-19-03; 8:45 am]

BILLING CODE 4510-30-P